DEPARTMENT OF TRANSPORTATION

Federal Aviation Administration

14 CFR Chapter 1

[Docket Number No. FAA-2014-0463]

Policy on the Non-Aeronautical Use of Airport Hangars; Extension for Comments

AGENCY: Federal Aviation Administration (FAA).

ACTION: Notice of proposed policy; 30 day extension for comments.

SUMMARY: The Federal Aviation Administration (FAA) has recently issued a notice of proposed policy. Significant interest among the aviation community, industry representatives, and congressional representatives has compelled the FAA to extend the comment period by 30 days. FAA will consider comments submitted to the docket by Monday, October 6, 2014.

DATES: Comments regarding this policy must be received on or before October 6, 2014.

ADDRESSES: You may send comments [identified by Docket Number FAA-2014-0463] using any of the following methods:

• Government-wide rulemaking Web site: Go to http://www.regulations.gov and follow the instructions for sending your comments electronically.

• Mail: Docket Operations, U.S. Department of Transportation, West Building, Ground Floor, Room W12-140, Routing Symbol M-30, 1200 New Jersey Avenue SE., Washington, DC 20590.

• Fax: 1-202-493-2251.

• Hand Delivery: To Docket Operations, Room W12-140 on the ground floor of the West Building, 1200 New Jersey Avenue SE., Washington, DC 20590, between 9 a.m. and 5 p.m., Monday through Friday, except Federal holidays.

FOR FURTHER INFORMATION CONTACT: Kevin C. Willis, Manager, Airport Compliance Division, ACO-100, Federal Aviation Administration, 800 Independence Avenue SW., Washington, DC 20591, telephone (202) 267-3085; facsimile: (202) 267-4629.

SUPPLEMENTARY INFORMATION: Privacy: We will post all comments we receive, without change, to http://www.regulations.gov, including any personal information you provide. Using the search function of our docket Web site, anyone can find and read the comments received into any of our dockets, including the name of the individual sending the comment (or signing the comment for an association, business, labor union, etc.). You may review DOT's complete Privacy Act Statement in the Federal Register published on April 11, 2000 (65 FR 19477-78).

Statutory Authority

This notice is published under the authority described in Title 49 of the United States Code, Subtitle VII, part B, chapter 471, section 47122(a).

Issued in Washington, DC, on September 5, 2014.
Randall S. Fiertz,
Director, Office of Airport Compliance and Management Analysis.

[FR Doc. 2014-21697 Filed 9-10-14; 8:45 am]

BILLING CODE 4910-13-P